DEPARTMENT OF THE INTERIOR

National Park Service

[NPS-WASO-CR-HPS-NPS0036623; PPWOCRADP1, PRN00HP12.CS0000, XXXP104214; OMB Control Number 1024-0009]

Agency Information Collection Activities; Submission to the Office of Management and Budget for Review and Approval; Historic Preservation Certification Application

AGENCY: National Park Service, Interior.

ACTION: Notice of Information Collection; request for comment.

SUMMARY: In accordance with the Paperwork Reduction Act of 1995 we, the National Park Service are proposing to renew an information collection.

DATES: Interested persons are invited to submit comments on or before December 7, 2023.

ADDRESSES: Written comments and suggestions on the information collection requirements should be submitted by the date specified above in DATES to https://www.reginfo.gov/public/do/PRAMain. Find this particular information collection by selecting “Currently under Review—Open for Public Comments” or by using the search function. Please provide a copy of your comments to the NPS Information Collection Clearance Officer (ADIR-ICCO), 13461 Sunrise Valley Drive, Mail Stop 244 Reston, VA 20192, VA 20191 (mail); or phadrea_ponds@nps.gov (email). Please reference OMB Control Number 1024-0009 in the subject line of your comments.

FOR FURTHER INFORMATION CONTACT: To request additional information about this ICR, contact Brian Goeken, Chief, Technical Preservation Services, 1849 C St. NW Room 2255, Washington, DC 20240, or at brian_goeken@nps.gov (email), or 202-354-2033 (telephone). Please reference OMB Control Number 1024-0009 in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 28, 2022 (87 FR 65242). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Federal Historic Preservation Tax Incentives Program encourages private-sector investment in the rehabilitation and re-use of historic buildings. Through this program, underutilized or vacant buildings throughout the country of every period, size, style, and type have been rehabilitated and reused in a manner that maintains their historic character. To be eligible for tax incentives for historic buildings, a building must be listed individually on the National Register of Historic Places (NRHP); or located in a registered historic district and certified by the NPS as contributing to the historic significance of that district. A registered historic district is any district listed on the NRHP; or a state or local district if the district and the enabling statute have also been certified by the NPS. The NRHP is the official list of the Nation's historic places worthy of preservation.

Section 47 of the Internal Revenue Code requires that the Secretary of the Interior certify to the Secretary of the Treasury upon application by owners of historic properties for Federal tax benefits: (a) the historic significance of the property and (b) that the rehabilitation work is consistent with its historic character. The NPS administers the program with the Internal Revenue Service in partnership with the State Historic Preservation Offices (SHPOs). The NPS uses the information collected in the Historic Preservation Certification Application (Forms 10-168, 10-168a, 10-168b, and 10-168c) to evaluate the condition and historic significance of buildings undergoing rehabilitation and to evaluate whether or not the rehabilitation work meets the Secretary of the Interior's Standards for Rehabilitation.

Regulations codified in 36 CFR part 67 contain a requirement for completion of an application form. The NPS uses the information collected on the application form to allow the authorized officer to determine if the project is qualified to obtain historic preservation certifications from the Secretary of the Interior. These certifications are necessary for an applicant to receive substantial federal tax incentives authorized by Section 47 of the Internal Revenue Code. These incentives include a 20% federal income tax credit for the rehabilitation of income-producing historic buildings and an income tax deduction for the charitable donation of easements on historic properties. The Internal Revenue Code also provides a 10% federal income tax credit for the rehabilitation of non-historic, nonresidential buildings built before 1936. An owner of a non-historic building in a historic district must also use the application to obtain a certification from the Secretary of the Interior that his or her building does not contribute to the significance of the historic district before claiming this lesser tax credit for rehabilitation. The 10% credit was repealed as part of the 2017 tax reform legislation but remains in effect under certain transition rules.

SHPOs are the first point of contact for property owners wishing to use the rehabilitation tax credits. They help applicants determine if a historic building is eligible for Federal or State historic preservation tax incentives, provide guidance on an application before or after the project begins, and provide advice on appropriate preservation work. SHPOs use Forms 10-168d and 10-168e to make recommendations to NPS. In accordance with 36 CFR 67, we also collect information for: (1) certifications of state and local statutes (§ 67.8), (2) certifications of state or local historic districts (§ 67.9), and (3) appeals (§ 67.10).

Title of Collection: Historic Preservation Certification Application.

OMB Control Number: 1024-0009.

Form Number: NPS Forms 10-168, 10-168a, 10-168b, 10-168c, 10-168d, 10-168e.

Type of Review: Extension of a currently approved collection.

Respondents/Affected Public: Individuals, organizations, companies and businesses, and State or tribal governments.

Total Estimated Number of Annual Respondents: 12,208.

Total Estimated Number of Annual Responses: 12,208.

Estimated Completion Time per Response: Varies from 2.5 hours to 40 hours.

Total Estimated Number of Annual Burden Hours: 150,045.

Respondent's Obligation: Required to obtain or retain a benefit.

Frequency of Collection: On occasion.

Total Estimated Annual Nonhour Burden Cost: $4,440,135 based primarily on application fees and other costs.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2023-24574 Filed 11-6-23; 8:45 am]

BILLING CODE 4312-52-P